DEPARTMENT OF AGRICULTURE

Food and Nutrition Service

Agency Information Collection Activities: Proposed Collection; Comment Request—Special Supplemental Nutrition Program for Women, Infants, and Children (WIC) Program Regulations—Reporting and Record-Keeping Burden

AGENCY: Food and Nutrition Service (FNS), USDA.

ACTION: Notice.

SUMMARY: In accordance with the Paperwork Reduction Act of 1995, this notice invites the general public and other public agencies to comment on this proposed information collection. This collection is a revision to a currently approved information collection in the Special Supplemental Nutrition Program for Women, Infants, and Children (WIC) Regulations (7 CFR part 246) for the reporting and record-keeping burdens associated with the WIC Program regulations.

DATES: Written comments must be received on or before April 24, 2017.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Kurtria Watson, Food and Nutrition Service, U.S. Department of Agriculture, 3101 Park Center Drive, Room 524, Alexandria, VA 22302. Comments may also be submitted via fax to the attention of Kurtria Watson at 703-305-2196 or via email to Kurtria.Watson@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kurtria Watson at 703-605-4387.

SUPPLEMENTARY INFORMATION: Title: Special Supplemental Nutrition Program for Women, Infants, and Children (WIC) Program Regulations—Reporting and Record-keeping Burden.

Form Number: N/A.

OMB Number: 0584-0043.

Expiration Date: April 30, 2017.

Type of Request: Revision of a currently approved collection.

Abstract: The purpose of the Special Supplemental Nutrition Program for Women, Infants, and Children (WIC) is to provide supplemental foods, nutrition education, and health care referrals to low income, nutritionally at-risk pregnant, breastfeeding and postpartum women, infants, and children up to age five. Currently, WIC operates through State health departments in 50 States, 34 Indian Tribal Organizations, American Samoa, District of Columbia, Guam, Commonwealth of the Northern Mariana Islands, Puerto Rico, and the Virgin Islands. The Federal regulations governing the WIC Program (7 CFR part 246) require that certain program-related information be collected and that full and complete records concerning WIC operations are maintained. The information reporting and record-keeping burdens are necessary to ensure appropriate and efficient management of the WIC program.

The reporting and record-keeping burdens covered by this Information Collection Burden (ICB) include requirements that involve the certification of WIC participants; the nutrition education that is provided to participants; the authorization, training and monitoring of vendors; and the collection of vendor pricing information in order to comply with the Federal regulations regarding WIC cost containment. State Plans are the principal source of information about how each State agency operates its WIC Program. Information collected from participants and local agencies is collected through State-developed forms or Management Information Systems. The information collected is used by the Department of Agriculture to manage, plan, evaluate, make decisions and report on WIC program operations. This information collection is requesting a revision in the burden hours due to program changes related to Electronic Benefits Transfer (EBT) delivery and program adjustments that primarily reflect expected changes in the number of WIC participants; WIC authorized vendors; and WIC local agencies. The revisions decreased the approved reporting burden by 169,424 hours and decreased the total approved record-keeping burden by 88,203 hours.

Reporting Burden

Affected Public: Individual/Households; Business or Other for Profit; State, Local and Tribal Government.

Estimated Number of Respondents: The total estimated number of respondents is 7,739,970. This includes: 1,927 State and local agencies; 7,693,319 WIC participants; and 44,724 Retail Vendors.

Estimated Number of Responses per Respondent: The estimated number of responses per respondent is 3.07.

Estimated Total Annual Responses: The estimated total for annual responses is 23,734,452.

Estimated Time per Response: The estimated time per response is .13 hours.

Estimated Total Annual Reporting Burden Hours: The estimated total annual reporting burden hours is 3,159,555.

Current OMB Inventory: 3,328,979.

Difference (Burden Revisions Requested): 169,424.

Record-Keeping Burden

Estimated Number of Record-keepers: The estimated number of record-keepers is 11,927.

Estimated Number of Records: The estimated number of records is 2,586.

Total Estimated Annual Records: The total estimated annual records is 30,848,590.

Estimated Annual Hours per Record-keeper: The estimated annual hours per record-keeper is .02.

Estimated Total Record-keeping Burden Hours: The estimated total record-keeping burden hours is 607,555.

Current OMB Inventory: 695,758.

Difference (Burden Revisions Requested): 88,203.

Estimated Grand Total for Reporting and Record-keeping Burden: The estimated grand total for reporting and record-keeping is 3,767,110.

Type of respondent | Total estimated number of respondents | Annual responses per respondent | Total estimated annual responses | Number of burden hours per request (hours) | Estimated burden hours
State, Local, & Indian Tribal Governments (90 WIC State agencies; 1,837 WIC local agencies) | 1,927 | 6,192 | 11,932,833 | 0.20 | 2,397,410
Business or Other For-Profit (44,724 WIC authorized vendors) | 44,724 | 2.24 | 100,338 | 1.77 | 177,455
Individuals/Households (7,693,319 WIC participants) | 7,693,319 | 1.52 | 11,701,281 | 0.05 | 584,689
Total Reporting Burden | 7,739,970 |  | 24,756,206 |  | 3,271,644

Type of respondent | Estimated number of record-keepers | Estimated number of records | Total estimated annual records | Estimated time (hours) | Estimated burden hours
State, Local, & Indian Tribal Governments (90 WIC State agencies; 1,837 WIC local agencies, 10,000) | 11,927 | 2,586 | 30,848,590 | 0.02 | 607,555

Dated: February 13, 2017.
Jessica Shahin,
Acting Administrator, Food and Nutrition Service, USDA.

[FR Doc. 2017-03340 Filed 2-17-17; 8:45 am]

BILLING CODE 3410-30-P